DEPARTMENT OF ENERGY

Federal Energy Regulatory Commission

[Docket No. RP01-331-001]

Cove Point LNG Limited Partnership; Notice of Compliance Filing

May 15, 2001.

Take notice that on May 9, 2001, Cove Point LNG Limited Partnership (Cove Point) tendered for filing as part of its FERC Gas Tariff, Second Revised Volume No. 1, Substitute First Revised Sheet No. 153, with an effective date of May 1, 2001.

Cove Point states that the filing is being made to comply with the Commission's Order on Filings in Compliance with Order No. 587-M, 95 FERC 61,127 (2001).

Any person desiring to protest said filing should file a protest with the Federal Energy Regulatory Commission, 888 First Street, NE., Washington, DC 20426, in accordance with Section 385.211 of the Commission's Rules and Regulations. All such protests must be filed in accordance with Section 154.210 of the Commission's Regulations. Protests will be considered by the Commission in determining the appropriate action to be taken, but will not serve protestants parties to the proceedings. Copies of this filing are on file with the Commission and are available for public inspection in the Public Reference Room. This filing may be viewed on the web at http://www.ferc.fed.us/online/rims.htm (call 202-208-2222 for assistance). Comments, protests and interventions may be filed electronically via the internet in lieu of paper. See, 18 CFR 385.2001(a)(1)(iii) and the instructions on the Commission's web site at http://www.ferc.fed.us/efi/doorbell.htm.

David P. Boergers,
Secretary.

[FR Doc. 01-12654 Filed 5-18-01; 8:45 am]

BILLING CODE 6717-01-M